DEPARTMENT OF HEALTH AND HUMAN SERVICES

National Institutes of Health

National Cancer Institute; Cancellation of Meeting

Notice is hereby given of the cancellation of the Frederick National Laboratory Advisory Committee to the National Cancer Institute, February 20, 2019, 1:00 p.m. to February 20, 2019, 5:00 p.m., National Cancer Institute Shady Grove, 9609 Medical Center Drive, TE406, Rockville, MD, 20850 which was published in the Federal Register on February 5, 2019, 84 FR 1759.

This meeting was cancelled due to inclement weather and will not be rescheduled.

Dated: February 28, 2019.
Melanie J. Pantoja,
Program Analyst, Office of Federal Advisory Committee Policy.

[FR Doc. 2019-03947 Filed 3-4-19; 8:45 am]

BILLING CODE 4140-01-P